DEPARTMENT OF HOMELAND SECURITY

Coast Guard

[Docket Number USCG-2021-0183]

Final Programmatic Environmental Impact Statement for the Expansion and Modernization of Base Seattle

AGENCY: Coast Guard, DHS.

ACTION: Notice of Availability of the Final Programmatic Environmental Impact Statement Expansion and Modernization of Base Seattle.

SUMMARY: The U.S. Coast Guard (Coast Guard) announces the availability of the Final Programmatic Environmental Impact Statement (PEIS) for the Expansion and Modernization of Base Seattle. In accordance with National Environmental Policy Act (NEPA) and the Council on Environmental Quality (CEQ) NEPA implementing regulations, the Final PEIS analyzes the potential environmental and socioeconomic impacts, and identifies related mitigation measures, associated with land acquisition, facility and infrastructure modernization, and continued operation to support current and future Coast Guard missions at Base Seattle.

DATES: The Coast Guard will not issue a final decision on the proposed action until at least December 16, 2024, or at least 30 days after the Environmental Protection Agency publishes its Notice of Availability of this Final PEIS in the Federal Register.

ADDRESSES: The complete text of the Final PEIS is available in the docket, which can be found by searching the docket number USCG-2021-0183 using the Federal eRulemaking Portal at https://www.regulations.gov or at https://www.dcms.uscg.mil/NEPA.

FOR FURTHER INFORMATION CONTACT: Requests for additional information should be sent to U.S. Coast Guard, Shore Infrastructure Logistics Center, Environmental Management Division, ATTN: Dean Amundson, 1301 Clay Street, Suite 700N, Oakland, CA 94612-5203. ; phone 510-637-5541; email BaseSeattlePEIS@uscg.mil.

SUPPLEMENTARY INFORMATION: The Final PEIS was prepared in accordance with the requirements of NEPA, the CEQ regulations implementing NEPA (40 CFR 1500-1508), DHS procedures for implementing NEPA (DHS Instruction Manual 023-01-001-01 (series)), Coast Guard Environmental Planning Policy (Commandant Instruction [COMDTINST] 5090.1), and other applicable DHS and Coast Guard policies and guidance. A Notice of Intent (NOI) to prepare the PEIS was published in the Federal Register on May 7, 2021 (86 FR 24637). On October 11, 2022, the Coast Guard published a Notice of Availability (NOA) and a request for comments on the Draft PEIS (87 FR 61344). In response to a comment in the docket the Coast Guard extended the public comment period until December 16, 2022, which was announced in the Federal Register (87 FR 73011) and in local newspapers on November 28, 2022.

The purpose of the proposed action is to provide adequate and efficient shore facilities and infrastructure at Base Seattle to support the Coast Guard's execution of its current and future statutory missions, pursuant to 14 United States Code (U.S.C.) 102. Base Seattle is the largest Coast Guard installation in the Pacific Northwest and is an essential facility to support Coast Guard missions in the Pacific Northwest and polar (the Arctic and Antarctica) areas of responsibility (AOR), now and for the foreseeable future.

The Coast Guard identified three reasonable alternatives that would meet the purpose and need of the proposed action. The PEIS analyzed the potential environmental and socioeconomic impacts associated with the proposed action, action alternatives and the no action alternative; including direct, indirect, and cumulative effects, and potential mitigation measure to minimize impacts. The Coast Guard has actively considered the full range of alternatives when determining the preferred alternative for the Final PEIS. The Coast Guard continues to consider each alternative and will document the Guard's decision as part of the Record of Decision.

The Draft PEIS identified Alternative 1 as the Coast Guard's preferred alternative. Based on public comments, the Coast Guard conducted additional technical analysis which provided greater detail about the context and intensity of environmental impacts. While the significant findings remained consistent, additional information was obtained to better inform the Coast Guard decision-maker. The socioeconomic analysis considered each of the alternatives, as well as different land acquisition options, based on acreage, within each alternative to establish a range of impacts. The socioeconomic study found that the magnitude of socioeconomic impacts to the Port of Seattle are largely dependent upon the amount of acreage that is acquired.

Therefore, acquiring fewer acres of land in Alternative 1 would cause less long-term socioeconomic impacts than acquiring more acres of land in Alternatives 2 or 3. Additionally, Alternative 1 is the environmentally preferable alternative as it avoids and minimizes impacts to biological, visual, and cultural resources. Finally, Alternative 1 would enable the Coast Guard to more quickly achieve the purpose of the proposed action. Consequently, Alternative 1 remains the Coast Guard's preferred alternative in the Final EIS.

The details of all three Action Alternatives are provided in Section 2.5. The Socioeconomic Report can be found in Appendix R of the Final PEIS.

Alternative 1: Modernization with Additional Land and Two Berths at Terminal 46 (Preferred Alternative). Alternative 1 would involve acquisition of land to the north at Terminal 46, including onshore development and access to existing berth space for two Coast Guard cutters. While additional work would occur on the existing Base property, this alternative would provide a single, large piece of property that would enable efficient expansion of Base facilities while providing the capability to incorporate the most effective Anti-Terrorism/Force Protection (AT/FP) setbacks of all the alternatives. Acquiring two existing, structurally adequate berths would be the most cost-effective and efficient action and would reduce potential effects by eliminating the need to construct new berths. Under Alternative 1, approximately 27 to 54 acres of land would be acquired from the Port of Seattle, including the 1.1-acre Belknap property, and between 26 and 53 acres from the Port of Seattle at Terminal 46. The acquired property at Terminal 46 would provide 1,070 linear feet of new Coast Guard berthing space. The alternative would provide flexible space for parking, equipment staging, emergency storage, and other similar or related uses would distributed throughout the current Base boundaries as well as on acquired property at Terminal 46 acquired property. Alternative 1 would include construction of several new facilities on Base.

Alternative 2: Modernization with Additional Land from Terminals 30 and 46. Alternative 2 would expand Base Seattle both to the north and south. Under Alternative 2, many of the proposed infrastructure modernization and expansion elements would occur within the current Base boundaries or on land acquired at Terminal 30, and berthing requirements would be satisfied by the development of two new berths to the south at Pier 35 E/F. Land acquired at Terminal 46 would be used for active cutter support services, material laydown areas for cutter materials and equipment, and AT/FP setbacks. Existing Base Seattle deficiencies would be resolved, AT/FP measures would be implemented, and aging infrastructure would be upgraded to meet current building codes (including seismic). Land acquisition under Alternative 2 would include 21.5 to 29.5 acres of land with the majority being 13.5 to 21.5 acres at Terminal 30 and would include Jack Perry Memorial Park. Two new berths would provide 1,120 linear feet (LF) of wharf space. The berths would be constructed with one berth on currently owned Coast Guard property and a second berth constructed on property acquired at Terminal 30. Flexible space for parking, equipment staging, emergency storage, and other similar or related uses would be distributed throughout the current Base boundaries as well as a portion of the newly acquired property at Terminal 30. Alternative 2 would include construction of several new facilities on Base.

Alternative 3: Modernization with Additional Land and One Berth at Terminal 46. Alternative 3 would expand Base Seattle to the north through land acquisition at Terminal 46 and would infill the current Base footprint by acquiring currently leased properties. Under Alternative 3, many of the proposed infrastructure modernization and expansion elements would occur within the current Base boundaries and on land acquired at Terminal 46. These elements include satisfying berthing requirements with construction of one new berth within the current Base boundaries (Pier 35 E) and one additional existing berth at Terminal 46. Under Alternative 3, existing Base Seattle deficiencies would be resolved, AT/FP measures upgraded, and aging infrastructure would be upgraded to meet current building codes (including seismic). Under Alternative 3, the minimum acquired land would total approximately 24.25 to 32.25 acres, with the majority of land 21.75 to 29.75 acres at Terminal 46. Under this alternative, one existing berth totaling 560 LF would be acquired at Terminal 46. No further modifications are required for this berth. A new berth would be constructed on Coast Guard property at Pier 35 E. Work would likely include typical construction for waterfront facilities, such as pile and decking installation and possibly dredging. The construction configuration and details for this berth are unknown at this time due to the unknown extent of a Comprehensive Environmental Response, Compensation, and Liability Act of 1980 (CERCLA) action that would have to occur prior to any pier construction. Flexible space for parking, equipment staging, emergency storage, and other similar or related uses would be distributed throughout the current Base boundaries as well as a portion of the newly acquired property at Terminal 46. Alternative 3 would include construction of several new facilities on Base.

No-Action Alternative. Under the No-Action Alternative, the Coast Guard would not implement land acquisition, facility modernization requirements, or infrastructure enhancements. Base Seattle would not be upgraded to make it a suitable location to homeport up to eight future major cutters. The No-Action Alternative would also eliminate the possibility of Coast Guard personnel relocating to Base Seattle from current facilities in downtown Seattle. Further, several buildings on Base could be forced to reduce capacity or risk losing functionality altogether if ongoing structural deterioration is not addressed. Delaying necessary demolition and construction projects would result in increased risks to the environment, the public, and the health and safety of Coast Guard personnel and visitors. Selecting the No-Action Alternative would significantly impair the Coast Guard's ability to accomplish its operational mission requirements throughout the Pacific Northwest and Arctic operational areas from Base Seattle. The No-Action Alternative would also leave requirements unfulfilled. The Coast Guard would not be able to continually comply with its statutory mandated missions effectively and efficiently. This alternative was analyzed in the PEIS to comply with Council of Environmental Quality (CEQ) National Environmental Policy Act (NEPA) regulations (40 Code of Federal Regulations [CFR] § 1502.14[c]) and to provide a comparative baseline against which to evaluate impacts of the Proposed Action and alternatives.

Resource areas analyzed in the Final PEIS include land use and coastal zone management, geological resources, water resources, transportation, air quality, biological resources, socioeconomics and environmental justice, cultural resources, noise, utilities and public services, hazardous materials and wastes, visual resources, recreational resources, and greenhouse gases and climate change.

Based on the analysis presented in the Final PEIS, potentially significant direct or indirect adverse impacts could occur to land use, socioeconomics and environmental justice, and cultural resources. Adverse cumulative impacts could occur to geological resources, water resources, biological resources, cultural resources, hazardous materials and wastes, and visual resources. Impacts to all other resource areas would be less-than-significant or beneficial. Base facilities and infrastructure improvements represent a long-term development program that will require a multi-year capital investment strategy. Specific projects may require additional NEPA evaluation and compliance with other environmental laws and regulations when they are programmed for implementation.

Following a 30-day waiting period, after publication of the Environmental Protection Agency's NOA in the Federal Register, the Coast Guard will announce its Record of Decision, which will be published in the Federal Register.

Dated: November 5, 2024.
A. Grable,
Rear Admiral, U.S. Coast Guard, Assistant Commandant for Engineering and Logistics.

[FR Doc. 2024-26393 Filed 11-14-24; 8:45 am]

BILLING CODE P